DEPARTMENT OF TRANSPORTATION

Research and Innovative Technology Administration

[Docket No. RITA-2013-0003]

Notice of Request for Clearance of a new Information Collection: National Census of Ferry Operators

AGENCY: Bureau of Transportation Statistics (BTS), Research and Innovative Technology Administration (RITA), DOT.

ACTION: Notice.

SUMMARY: In accordance with the requirements of section 3506(c)(2)(A) of the Paperwork Reduction Act of 1995, this notice announces the intention of the BTS to request the Office of Management and Budget's (OMB's) approval to make changes to an existing information collection related to the Nation's ferry operations (National Census of Ferry Operators, OMB Control Number—2139-0009). The data collected for the national census of ferry operators (NCFO) have historically been used to produce a descriptive database of existing ferry operations. Recently enacted MAP-21 legislation (Pub. L. 112-141, section 1121(b)), requires that the NCFO data be used by The Federal Highway Administration for funding allocations based on a specific set of formulae. As a result, BTS is proposing the elimination of census questions that do not support the MAP-21 requirements; while adding items needed to support the FHWA's funding algorithms. As with all previous NCFO initiatives, business sensitive information provided by ferry operators will not be made public. The Information provided will however, be shared with FHWA in order to support their funding allocations as dictated in MAP-21. For copies of the old and new NCFO questionnaires with edits, please contact the project director.

DATES: Comments must be submitted on or before August 8, 2013.

FOR FURTHER INFORMATION CONTACT: Kenneth W. Steve, (202) 366-4108, NCFO Project Manager, BTS, RITA, Department of Transportation, 1200 NJ Ave. SE., Room E34-431, Washington, DC 20590. Office hours are from 9:00 a.m. to 6:30 p.m., E.T., Monday through Friday, except Federal holidays.

SUPPLEMENTARY INFORMATION: Title: National Census of Ferry Operators (NCFO).

Type of Request: Approval of an information collection.

Affected Public: There are approximately 260 ferry operators nationwide.

Abstract: The Transportation Equity Act for the 21st Century (TEA-21) (Pub. L. 105-178), section 1207(c), directed the Secretary of Transportation to conduct a study of ferry transportation in the United States and its possessions. In 2000, the Federal Highway Administration (FHWA) Office of Intermodal and Statewide Planning conducted a survey of approximately 250 ferry operators to identify: (1) Existing ferry operations including the location and routes served; (2) source and amount, if any, of funds derived from Federal, State, or local governments supporting ferry construction or operations; (3) potential domestic ferry routes in the United States and its possessions and to develop information on those routes; and (4) potential for use of high speed ferry services and alternative-fueled ferry services. The Safe, Accountable, Flexible Efficient Transportation Equity Act—A Legacy for Users (SAFETEA-LU) Public Law 109-59, Section 1801(e)) required that the Secretary, acting through the BTS, establish and maintain a national ferry database containing current information regarding routes, vessels, passengers and vehicles carried, funding sources and such other information as the Secretary considers useful.

The newly enacted MAP-21 legislation (Pub. L. 112-141, section 1121(b)), requires that the NCFO database as previously defined in SAFETEA-LU: (1) Include “any Federal, State, and local government funding sources;” and (2) “ensure that the database is consistent with the national transit database maintained by the Federal Transit Administration.” To that end, a revised data collection form has been submitted to OMB for approval. Items removed from the old form include those designed to target ridership and terminal information that typically produce unreliable and/or incomplete data, and were not specifically required by law to be maintained as a part of the NCFO database. These items include segment data related to peak season (q12), daily passenger surges (q13), weekday passenger surges (q14), weekend passenger surges (q15), and other terminal operations (q16). Questions 2 through 5 of the old form were also refined to better meet the MAP-21 requirements. The concept of public or private ownership was also extended to individual vessel and terminals, and rate regulation to individual route segments. Finally, vessel and terminal items were refined or added to achieve content consistency with the National Transit Database.

Data Confidentiality Provisions: The National Census of Ferry Operators may collect confidential business information. The confidentiality of these data will be protected under 49 CFR 7.17. In accordance with this regulation, only statistical and non-sensitive business information will be made available through publications and public use data files. The statistical public use data are intended to provide an aggregated source of information on ferry boat operations nationwide. Business sensitive information may be shared with FHWA to support MAP-21 funding allocations.

Frequency: The survey will be conducted every other year beginning in 2013.

Estimated Burden: The total annual burden (in the year that the survey is conducted) is estimated to be just less than 130 hours (that is 30 minutes per respondent for 260 respondents equals 7,800 minutes).

Response to Comments: A 60 day notice requesting public comment was issued in the Federal Register on May 2, 2013. No comments were received.

Public Comments Invited: Interested parties are invited to send comments regarding any aspect of this information collection, including, but not limited to: (1) The necessity and utility of the information collection for the proper performance of the functions of the DOT; (2) the accuracy of the estimated burden; (3) ways to enhance the quality, utility, and clarity of the collected information; and (4) ways to minimize the collection burden without reducing the quality of the collected information. Send comments to the Office of Information and Regulatory Affairs, Office of Management and Budget, 725 17th Street NW., Washington, DC 20503, Attention: BTS Desk Officer.

Issued in Washington, DC, on this 3rd day of July, 2013.
Patricia Hu,
Director, Bureau of Transportation Statistics, Research and Innovative Technology Administration, U.S. Department of Transportation.

[FR Doc. 2013-16429 Filed 7-8-13; 8:45 am]

BILLING CODE 4910-HY-P